DEPARTMENT OF STATE

[Public Notice 5034]

Bureau of Educational and Cultural Affairs (ECA) Request for Grant Proposals: International Visitor Leadership Program Assistance Awards

Announcement Type: New Cooperative Agreement.

Funding Opportunity Number: ECA/PE/V-06-01.

Catalog of Federal Domestic Assistance Number: 19.402.

Key Dates: October 1, 2005-September 30, 2006.

Application Deadline: June 16, 2005.

Executive Summary:

The Office of International Visitors, Division of Professional and Cultural Exchanges, Bureau of Educational and Cultural Affairs (ECA/PE/V), United States Department of State (DoS) announces an open competition for three assistance awards to develop and implement International Visitor Leadership Programs (IVLP). The IVLP seeks to increase mutual understanding between the U.S. and foreign publics through carefully designedprofessional programs for approximately 4,700 foreign visitors per year from all regions of the world. The three awards will fund programming for a minimum of 200 and a maximum of 850 International Visitors (IVs). Award A will fund up to approximately 200 visitors ($370,000); Award B up to approximately 300 visitors ($586,000); and Award C up to 850 visitors ($1,586,000). Funding will be for FY-2006 (October 1, 2005-September 30, 2006). Applicant organizations may bid on one or all awards. Pending availability of funds, one assistance award will be made for each of the three categories described above. If an organization is interested in bidding on more than one award, a separate proposal and budget is required for each award. [See Project Objectives, Goals, and Implementation (POGI) for definitions of program-related terminology.]

The intent of this announcement is to provide the opportunity for organizations to develop and implement a variety of programs for International Visitors from multiple regions of the world. (Please refer to the POGI for breakdown of regions.) The award recipients will function as national program agencies (NPAs) and will work closely with Department of State Bureau (DoS) staff, who will guide them through programmatic, procedural, and budgetary issues for the full range of IVLP programs. (Hereafter, the terms “award recipient” and “national program agency” will be used interchangeably to refer to the grantee organization(s).)

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program above is provided through legislation.

Purpose: Program Information

Overview: The International Visitor Leadership Program seeks to increase mutual understanding between the U.S. and foreign publics through carefully designed professional programs. IVL programs support U.S. foreign policy objectives. Participants are current or potential foreign leaders in government, politics, media, education, science, labor relations, NGOs, the arts, and other key fields. They are selected by officers of U.S. embassies overseas and approved by the DoS staff in Washington, DC. Since the program's inception in 1940, there have been more than 140,000 distinguished participants in the program. Over 225 program alumni subsequently became heads of state or government in their home countries. All IVL programs must maintain a non-partisan character.

The Bureau seeks proposals from nonprofit organizations for development and implementation of professional programs for Bureau-sponsored International Visitors to the U.S. Once the awards are made, separate proposals will be required for each group project [Single Country (SCP), Sub-Regional (SRP), Regional (RP), and Multi-Regional (MRP)] as well as less formal proposals for Individual and Individuals Traveling Together (ITT) programs. At this time proposals are not required for Voluntary Visitor (VolVis) programs. Each program will be focused on a substantive theme. Some typical IVL program themes are: (1) U.S. foreign policy; (2) U.S. government and political system; (3) economic development; (4) education; (5) media; (6) information technology; (7) freedom of information; (8) NGO management; (9) women's issues; (10) tolerance and diversity; (11) counterterrorism; (12) democracy and human rights; (13) rule of law; (14) international crime; and (15) environmental issues. IVL programs must conform to all Bureau requirements and guidelines. Please refer to the Program Objectives, Goals, and Implementation (POGI) document for a more detailed description of each type of IVL program.

Guidelines: Goals and objectives for each specific IVL program will be shared with the award recipients at an appropriate time following the announcement of the assistance awards. DoS will provide close coordination and guidance throughout the duration of the awards. Award recipients will consult closely with the responsible ECA/PE/V program officer throughout the development, implementation, and evaluation of each IVL program. They should demonstrate the potential to develop the following types of programs.

1. Programs must contain substantive meetings that focus on foreign policy goals and program objectives and are presented by experts. Meetings, site visits, and other program activities should promote dialogue between participants and their U.S. professional counterparts. Programs must be balanced to show different sides of an issue.

2. Most programs will be three weeks long and will begin in Washington, DC, with an orientation and overview of the issues and a central examination of federal policies regarding these issues. Well-paced program itineraries usually include visits to four or five communities. Program itineraries ideally include urban and rural small communities in diverse geographical and cultural regions of the U.S., as appropriate to the program theme.

3. Programs should provide opportunities for participants to experience the diversity of American society and culture. Participants in RPs or MRPs are divided into smaller sub-groups for simultaneous visits to different communities, with subsequent opportunities to share their experiences with the full group once it is reunited.

4. Programs should provide opportunities for the participants to share a meal or similar experience (home hospitality) in the homes of Americans of diverse occupational, age, gender, and ethnic groups. Some individual and group programs might include an opportunity for an overnight stay (home stay) in an American home.

5. Programs should provide opportunities for participants to address student, civic and professional groups in relaxed and informal settings.

6. Participants should have appropriate opportunities for site visits and hands-on experiences that are relevant to program themes. The award recipients may propose professional “shadowing” experiences with U.S. professional colleagues for some programs; (A typical shadowing experience means spending a half- or full-workday with a professional counterpart.)

7. Programs should also allow time for participants to reflect on their experiences and, in group programs, to share observations with program colleagues. Participants should have opportunities to visit cultural and tourist sites; and

8. The award recipients must make arrangements for community visits through affiliates of the National Council for International Visitors (NCIV). In cities where there is no such council, the award recipients will arrange for coordination of local programs.

Qualifications:

1. Applicants' proposals must demonstrate at a minimum four years of successful experience in coordinating international exchanges.

2. Applicants' proposals must demonstrate the ability to develop and administer IVL programs.

3. Proposals should demonstrate an applicant's broad knowledge of international relations and U.S. foreign policy issues.

4. Proposals should demonstrate an applicant's broad knowledge of the United States and U.S. domestic issues.

5. The award recipients must have a Washington, DC presence. Applicants who do not currently have a Washington, DC presence must include a detailed plan in their proposal for establishing such a presence by October 1, 2005. The costs related to establishing such a presence must be borne by the award recipient. No such costs may be included in the budget submission in this proposal. The award recipient must have e-mail capability, access to Internet resources, and the ability to exchange data electronically with all partners involved in the International Visitor Leadership program.

6. Proposals should demonstrate that an applicant has an established resource base of programming contacts and the ability to keep the base continuously updated. This resource base should include speakers, thematic specialists, or practitioners in a wide range of professional fields in both the private and public sectors.

7. All proposals must demonstrate sound financial management.

8. All proposals must contain a sound management plan to carry out the volume of work outlined in the Solicitation. This plan should include an appropriate staffing pattern and a work plan/time frame.

9. Applicants must include in their proposal narrative a discussion of “lessons learned” from past exchanges coordination experience, and how these will be applied in implementing the International Visitor Leadership Program.

10. The award recipients must have the capability to utilize the world wide web for the electronic retrieval of program data from the Department of State's IVL program Web site. The award recipient's office technology must be capable of exchanging information with all partners involved in the International Visitor Leadership program. The award recipient must have the capability to electronically communicate through eNPA (Electronic National Program Agency), the software application that allows award recipients to share information and data electronically through the Department of State's Exchange Visitor Database (EVDB) and with the Councils for International Visitors (CIVs), as well as to produce a national program book and other supporting documents (e.g., evaluations, appointment requests and confirmations, participant welcome letters and mailing labels) generated directly into Microsoft Word.

11. Applicants must include as a separate attachment under TAB G of their proposals the following:

a. Samples of at least two schedules for international exchange or training programs that they have coordinated within the past four years that they are particularly proud of and that they feel demonstrate their organization's competence and abilities to conduct the activities outlined in the RFGP;

b. Samples of orientation and evaluation materials used in past international exchange or training programs.

Requirements for Past Performance References

Instead of Letters of Endorsement, DoS will use past performance as an indicator of an applicant's ability to successfully perform the work. TAB E of the proposal must contain between three and five references who may be called upon to discuss recently completed or ongoing work performed for professional exchange programs (may include the IVL program). The reference must contain the information outlined below. Please note that the requirements for submission of past performance information also apply to all proposed sub recipients when the total estimated cost of the sub award is over $100,000.

At a minimum, the applicant must provide the following information for each reference:

• Name of the reference organization.

• Project name.

• Project description.

• Performance period of the contract/grant.

• Amount of the contract/grant.

• Technical contact person and telephone number for referenced organization.

• Administrative contact person and telephone number for referenced organization.

DoS may contact representatives from the organizations cited in the examples to obtain information on the applicant's past performance. DoS also may obtain past performance information from sources other than those identified by the applicant.

Personnel: Applicants must include complete and current resumes of the key personnel who will be involved in the program management, design and implementation of IVL programs. Each resume is limited to two pages per person.

Budget Guidelines: Applicants are required to submit a comprehensive line-item administrative budget in accordance with the instructions in the Solicitation Package (Proposal Submission Instructions). The submission must include a summary budget and a detailed budget showing all administrative costs. Proposed staffing and costs associated with staffing must be appropriate to the requirements outlined in the RFGP and in the Solicitation Package. Cost sharing is encouraged and should be shown in the budget presentation.

The Department of State is seeking proposals from public and private nonprofit organizations that are not already in communication with DoS regarding an FY-2006 assistance award from ECA/PE/V. All applicants must have at a minimum four years experience conducting international exchanges; an ability to closely consult with DoS staff throughout program administration; and proven fiscal management integrity. Please refer to the Solicitation Package for complete budget guidelines and formatting instructions.

The Bureau of Educational and Cultural Affairs, as sponsor and manager of the International Visitor Leadership Program, plays a significant role in the planning, implementation, and evaluation of all types of International Visitor Leadership Programs and is responsible for all communication with overseas missions. The Bureau will provide close coordination and guidance throughout the duration of the awards. Award recipients will consult closely with the responsible ECA/PE/V program officer throughout the development, implementation, and evaluation of each IVL program.

All liaison shall be with the designated elements of the DoS relative to the following responsibilities incurred by the Recipient under this agreement:

A. Program—Bureau of Educational and Cultural Affairs, Office of International Visitors, Community Resources Division, ECA/PE/V/C.

B. Financial—Bureau of Educational and Cultural Affairs, Grants Division, ECA-IIP/EX/G.

II. Award Information

Type of Award: Cooperative Agreement.

ECA's level of involvement in this program is listed under number I above.

Fiscal Year Funds: FY-2006.

Approximate Total Funding: ($2,542,000—Administrative funding only, program funds provided as needed).

Approximate Number of Awards: Three.

Approximate Average Award: $500,000.

Floor of Award Range: $370,000 (200 visitors).

Ceiling of Award Range: $1,586,000 (850 visitors).

Anticipated Award Date: Pending availability of funds, October 1, 2005.

Anticipated Project Completion Date: September 30, 2006.

Additional Information: Pending successful implementation of this program and the availability of funds in subsequent fiscal years, it is ECA's intent to renew these cooperative agreements for five additional fiscal years, before openly competing them again.

III. Eligibility Information

III.1. Eligible applicants: Applications may be submitted by public and private nonprofit organizations meeting the provisions described in Internal Revenue Code section 26 U.S.C. 501(c)(3).

III.2. Cost sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved cooperative agreement.

Cost sharing may be in the form of allowable direct or indirect costs. For accountability, you must maintain written records to support all costs, which are claimed as your contribution, as well as costs to be paid by the Federal government. Such records are subject to audit. The basis for determining the value of cash and in-kind contributions must be in accordance with OMB Circular A-110, (Revised), Subpart C.23—Cost Sharing and Matching.

In the event you do not provide the minimum amount of cost sharing as stipulated in the approved budget, ECA's contribution will be reduced in like proportion.

III.3. Other Eligibility Requirements: (a) Bureau cooperative agreement guidelines require that organizations with less than four years experience in conducting international exchanges be limited to $60,000 in Bureau funding. ECA anticipates awarding three cooperative agreements: Award A ($370,000); Award B ($586,000) and Award C ($1,586,000); in an amount up to $2,542,000 to support administrative costs required to implement this exchange program. Therefore, organizations with less than four years experience in conducting international exchanges are ineligible to apply under this competition. Program costs will be transferred directly to the award recipient based upon visitor workload, and should not be included in your proposal. The Bureau encourages applicants to provide maximum levels of cost sharing and funding in support of its programs.

(b) Technical Eligibility: All proposals must comply with the technical eligibility requirements specified in the Proposal Submission Instructions (PSI) and the Project Objectives, Goals, and Implementation (POGI). Failure to do so will result in proposals being declared technically ineligible and given no further consideration in the review process.

IV. Application and Submission Information

Note: Please read the complete Federal Register announcement before sending inquiries or submitting proposals. Once the RFGP deadline has passed, Bureau staff may not discuss this competition with applicants until the proposal review process has been completed.

IV.1. Contact Information to Request an Application Package: Please contact the Office of International Visitors, Multi-Regional Programs Division (ECA/PE/V/M), Room 266-A, U.S. Department of State, SA-44, 301 4th St., SW., Washington, DC 20547, (BeardJB@state.gov) to request a Solicitation Package. Please refer to the Funding Opportunity Number ECA/PE/V-06-01 located at the top of this announcement when making your request.

The Solicitation Package contains the Proposal Submission Instruction (PSI) document which consists of required application forms, and standard guidelines for proposal preparation.

It also contains the Project Objectives, Goals and Implementation (POGI) document, which provides specific information, award criteria and budget instructions tailored to this competition.

Please specify Janet B. Beard, and refer to the Funding Opportunity Number (ECA/PE/V/M-06-01) located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 10 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. ECA/PE/V will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Please refer to the Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress toward outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements, etc.

IV.3e. Please take the following information into consideration when preparing your budget:

IV.3e.1. Applicants must submit a comprehensive budget for the entire program. Funding levels are listed under Sec. II of this announcement. There must be a summary budget as well as breakdowns reflecting only the administrative budget. Program funds will be provided by the IVLP office on a quarterly basis according to each award recipient's visitor workload. Applicants may provide separate sub-budgets for each program component, phase, location, or activity to provide clarification.

IV.3e.2. Allowable costs for the program include the following:

(1) Staff Salaries and Benefits;

(2) Office and Program Supplies;

(3) Telephone and Communications;

(4) Staff Travel and Per Diem;

(5) ADP Equipment Maintenance and IT Costs;

(6) Indirect Costs

Please refer to the Solicitation Package for complete budget guidelines and formatting instructions.

IV.3f. Submission Dates and Times: Application Deadline Date: Thursday, June 16, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 10 copies of the application should be sent to:

U.S. Department of State, SA-44, Bureau of Educational and Cultural Affairs, Ref.: ECA/PE/V-06-01, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards or cooperative agreements resides with the Bureau's Grants Officer.

Review Criteria

Technically eligible applications will be competitively reviewed according to the criteria stated below. These criteria are not rank ordered and all carry equal weight in the proposal evaluation:

1. Evidence of Effectiveness/Program Planning: The proposal should convey that the applicant has a good understanding of the overall goals and objectives of the IVL program. It should exhibit originality, substance, precision, and be responsive to requirements stated in the RFGP and the Solicitation Package. The proposal should contain a detailed and relevant work plan that demonstrates substantive intent and logistical capacity. The agenda and plan should adhere to the program overview and guidelines described in the RFGP and the POGI.

2. Support of Diversity: The proposal should demonstrate substantive support of the Bureau's policy on diversity. Achievable and relevant features should be cited in both program administration (program venue and program evaluation) and program content (orientation and wrap-up sessions, program meetings, resource materials, and follow-up activities).

3. Institutional Capacity: The award recipient must have a Washington, DC presence. Applicants who do not currently have a Washington, DC presence must include a detailed plan in their proposal for establishing such a presence by October 1, 2005. The costs related to establishing such a presence must be borne by the award recipient. No such costs may be included in the budget submission in this proposal. The proposal should clearly demonstrate the applicant's capability for performing the type of work required by the IVL program and how the institution will execute its program activities to meet the goals of the IVL program. It should reflect the applicant's ability to design and implement, in a timely and creative manner, professional exchange programs which encompass a variety of project themes. Proposed personnel and institutional resources should be adequate and appropriate to achieve the program goals. The proposal must demonstrate that the applicant has or can recruit adequate and well-trained staff. All recipients must submit their IVL Program and national itinerary data electronically to the DoS by utilizing either the eNPA tool provided by the Department or the mandated standard data format submission that has been established as an interface to existing legacy systems.

4. Institution's Record/Ability: The proposal should demonstrate an institutional record of a minimum of four years of successful experience in conducting IVL or other professional exchange programs, which are similar in nature and magnitude to the scope of work outlined in this solicitation. The applicant must demonstrate the potential for programming IVL participants from multiple regions of the world. Applicants should demonstrate that their organizations would consult with DoS program officers on a regular basis to ensure that the assigned visitor projects would consistently meet program objectives. Proposals should demonstrate an institutional record of successful exchange programs, including responsible fiscal management and full compliance with all reporting requirements for past Bureau cooperative agreements as determined by Bureau Grants Staff. The Bureau will consider the past performance of prior recipients and the demonstrated potential of new applicants.

5. Project Evaluation: The proposal should include a plan to evaluate the activity's success, both as the activities unfold and at the end of the program. A draft survey questionnaire or other technique plus description of a methodology to use to link outcomes to original project objectives is recommended.

6. Cost-effectiveness: The overhead and administrative components of the proposal, including salaries and honoraria, should be kept as low as possible. This includes acquiring and retaining capable staff. All other costs, such as building maintenance, should be necessary and appropriate.

7. Cost sharing: Proposals should maximize cost sharing through other private sector support as well as institutional direct funding contributions. Describe any cost sharing, including contributions from your organization as well as other institutions. Cost sharing figures should comply with OMB Circulars included in the Guidelines. If you believe that the OMB Circular does not capture in-kind or other cost sharing by your organization, feel free to include a narrative description of that cost sharing.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Nonprofit Organizations.

Please reference the following websites for additional information: http://www.whitehouse.gov/omb/grants; and http://exchanges.state.gov/education/grantsdiv/terms.htm#articleI.

VI.3. Reporting Requirements: You must provide ECA with a hard copy original plus one copy of the following reports:

Mandatory:

(1) A final program and financial report no more than 90 days after the expiration of the award. This report must disclose cost sharing and be certified by the award recipient's chief financial officer or an officer of comparable rank.

(2) Quarterly financial reports within thirty (30) days following the end of the calendar year quarter. These reports should itemize separately international visitor costs, voluntary visitor costs, English language officer/Interpreter costs for international visitors, English language officer/Interpreter costs for voluntary visitors, special project costs by projects, and administrative costs for the previous quarter on a cash basis. These reports should also list separately the number of English language officers/Interpreters accompanying international visitors, and the number of English language officers/Interpreters accompanying voluntary visitors for whom funds are expended. Quarterly financial reports must be certified by the award recipient's chief financial officer or an officer of comparable rank. For further information, please refer to the 2006 Program Objectives, Goals, and Implementation.

(3) Such operating, statistical, and financial information relating to the program as may be requested by the DoS to meet its reporting requirements and answer inquiries concerning the operation of the program, as stipulated in the FY 2006 Program Objectives, Goals, and Implementation.

(4) Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Janet B. Beard, Chief, Multi-Regional Programs Division (ECA/PE/V/M), Room 266-A, ECA/PE/V-06-01, U.S. Department of State, SA-44, 301 4th St., SW., Washington, DC 20547, BeardJB@state.gov.

All correspondence with the Bureau concerning this RFGP should reference the above title and number ECA/PE/V-06-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 17, 2005.
C. Miller Crouch,
Principal Deputy Assistant Secretary, Bureau of Educational and Cultural Affairs, Department of State.

[FR Doc. 05-5829 Filed 3-23-05; 8:45 am]

BILLING CODE 4710-05-P